DEPARTMENT OF THE INTERIOR

Fish and Wildlife Service

Information Collection Renewal To Be Submitted to the Office of Management and Budget (OMB) for Approval Under the Paperwork Reduction Act

AGENCY: Fish and Wildlife Service, Interior.

ACTION: Information collection; request for comments.

SUMMARY: The collection of information described below is submitted to OMB for renewal under the provisions of the Paperwork Reduction Act of 1995. A copy of the information collection requirements is included in this notice. Copies of specific information collection requirements, related forms and explanatory material may be obtained by contacting the Service Information Collection Office at the address and/or phone numbers listed below.

DATES: Consideration will be given to all comments received on or before September 13, 2000. OMB has up to 60 days to approve or disapprove information collection, but may respond after 30 days. Therefore, to ensure maximum consideration, OMB should receive public comments by the above referenced date.

ADDRESSES: Comments and suggestions on specific requirements should be sent to the Desk Officer for Interior Department, Office of Information and Regulatory Affairs, Office of Management and Budget, New Executive Office Building, Washington, DC 20503, and the Service Information Collection Clearance Officer, U.S. Fish and Wildlife Service, MS 222 ARLSQ, 1849 C Street NW, Washington, DC 20240. If you wish to comment, you may submit your comments by any one of several methods. You may mail comments to the above address. You may also comment via the Internet to R9LE_www@fws.gov. Please submit Internet comments as an ASCII file, avoiding the use of special characters and any form of encryption. Please also include “Attn: Information Collection Renewal, 3-177 form” and your name and return address in your Internet message. If you do not receive a confirmation from the system that we have received your Internet message, contact us directly at the telephone number listed below. Finally, you may hand-deliver comments to the above address.

FOR FURTHER INFORMATION CONTACT: Kevin Adams, Chief, Office of Law Enforcement, U.S. Fish and Wildlife Service, telephone (703) 358-1949, fax (703) 358-2271.

SUPPLEMENTARY INFORMATION: The OMB regulations at 5 CFR Part 1320, which implement provisions of the Paperwork Reduction Act of 1995 (44 U.S.C. 3501), require that interested members of the public and affected agencies have an opportunity to comment on information collection and recordkeeping activities (see 5 CFR 1320.8(d)). On Friday, February 18, 2000, the U.S. Fish and Wildlife Service (Service) published a 60-day notice on the information collections associated with the “Declaration for Importation and Exportation of Fish or Wildlife”, Form 3-177. The comment period for this notice expired on April 18, 2000, and the Service in this notice is requesting comment for the 30-day period following the date of publication in the Federal Register. No comments were provided to the Information Collection Clearance Officer as a result of the February 18 notice. The assigned OMB information collection control number is 1018-0012. This interim rule contains new information collection and we will submit the information collection requirements to OMB for review and approval under the Paperwork Reduction Act of 1995, Public Law, 104-13. Comments are requested regarding (1) whether the collection of information is necessary for the proper performance of the agency's function, including whether the information will have practical utility (2) the accuracy of the agency's estimate of burden, including the validity of the methodology and assumption used; (ways to enhance the quality, utility and clarity of the information to be collected; and (4) ways to minimize the burden of the collection of information on those who are to respond, including through the use of appropriate automated, electronic material, or other technological collection techniques or other forms of information technology. The Service is requesting a three-year term of approval for this information collection activity. An agency may not conduct or sponsor, and a person is not required to respond to, a collection of information unless it displays a currently valid OMB control number. The information collection in this program will not be part of a system of records covered by the Privacy Act (5 U.S.C. 552(a)).

The Endangered Species Act (16 U.S.C. 1538(e)) makes it unlawful to import or export fish, wildlife or plants without filing any declaration or report deemed necessary for enforcing the Act or upholding the Convention on International Trade in Endangered species (CITES). The U.S. Fish and Wildlife Service Form 3-177, “Declaration for Importation or Exportation of Fish or Wildlife,” is the documentation required of any individual importing or exporting a fish or wildlife product into or out of the United States. The information collected is unique to each wildlife shipment and enables the Service to accurately inspect the contents of the shipment, maintain records and enforce government regulations. Additionally, much of the collected information is compiled in an annual report and is forwarded to the CITES Secretariat in Geneva, Switzerland. Submission of an annual report on the number and types of imports and exports of fish and wildlife is a treaty obligation under CITES.

Service personnel use the information obtained from a 3-177 form as an enforcement tool and management aid in monitoring the international wildlife market and detecting trends and changes in the commercial trade of wildlife and plants. The Agency's Office of Scientific Authority and the Office of Management Authority use this data to assess the needs for additional protection for indigenous species.

In addition, non-government organizations, as well as the commercial wildlife community request information that has been obtained from the 3-177 declaration form.

The 3-177 form must be filed with the Service at the time of import or export, at a port where clearance is requested. In certain instances, this form may be filed with the U.S. Customs Service.

The standard information collection includes the name of the importer/exporter and broker, the scientific and common name of the wildlife, permit numbers (if a permit is required), a description of the commodity, quantity and value, and country of origin of the wildlife. In addition, information such as the airway bill or bill of lading number, the location of the goods for inspection, and number of cartons containing wildlife assists the inspectors if a physical examination is required, and expedites the inspection and eventual clearance of the shipment.

Title: Declaration for Importation or Exportation of Fish or Wildlife.

Approval Number: 1018-0012.

Service Form Number: 3-177.

Frequency of Collection: Hourly.

Description of Respondents: Businesses or individuals that import/export wildlife, scientific institutions, government agencies.

Total Annual Burden Hours: The reporting burden is estimated to average 15 minutes per respondent. The total annual burden hours is 21,250 hours.

Total Annual Responses: Approximately 85,000 individual declaration forms are filed with the Service in a fiscal year.

We invite comments on the renewal of the 3-177 form. The information collections in this program are part of a system of records by the Privacy Act (5 U.S.C. 552(a)). Our practice is to make comments, including names and home addresses of respondents, available for public review during regular business hours. Individual respondents may request that we withhold their home addresses from the record, which we will honor to the extent allowable by law. There may also be limited circumstances in which we would withhold from the rulemaking record, a respondent's identity, as allowable by law. If you wish us to withhold your name and/or address, you must state this clearly at the beginning of your comment. We will not consider anonymous comments. We generally make all submissions from organizations or businesses, and from individuals identifying themselves as representatives or officials of organizations or businesses, available for public inspection in their entirety.

Dated: July 7, 2000.
Rebecca Mullin,
Information Collection Officer, U.S. Fish and Wildlife Service.

BILLING CODE 4310-55-M

[FR Doc. 00-20508; Filed 8-11-00; 8:45 am]

BILLING CODE 4310-55-C